DEPARTMENT OF COMMERCE

National Oceanic and Atmospheric Administration

RIN 0648-XI02

Endangered Species and Marine Mammals; File No. 10014-01

AGENCY: National Marine Fisheries Service (NMFS), National Oceanic and Atmospheric Administration (NOAA), Commerce.

ACTION: Notice; issuance of permit amendment.

SUMMARY: Notice is hereby given that the New Jersey Department of Environmental Protection (NJDEP), Division of Science, Research and Technology, P.O. Box 409, Trenton, NJ 08625-0409 has been issued a permit amendment to take marine mammals for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Patrick Opay or Kate Swails, (301)713-2289.

SUPPLEMENTARY INFORMATION: On April 9, 2008, notice was published in the Federal Register (73 FR 19194) that a request to amend Permit No. 10014 had been submitted by the above-named organization. The requested permit amendment has been issued under the authority of the the Marine Mammal Protection Act of 1972, as amended (16 U.S.C. 1361 et seq.), and the regulations governing the taking and importing of marine mammals (50 CFR part 216).

The permit amendment authorizes the NJDEP to take up to 2,500 common dolphins (Delphinus delphis), 3,200 bottlenose dolphins (Tursiops truncatus), and 1,280 harbor porpoises (Phocoena phocoena) annually through December 31, 2012. The study area would continue to include U.S. waters offshore of southern New Jersey out to a distance of 20 nautical miles.

In compliance with the National Environmental Policy Act of 1969 (42 U.S.C. 4321 et seq.), an environmental assessment was prepared analyzing the effects of the permitted activities. After a Finding of No Significant Impact, the determination was made that it was not necessary to prepare an environmental impact statement.

Issuance of this permit amendment was based on a finding that it is consistent with the purposes and policies of the MMPA and ESA. It is believed that the research will further a bona fide scientific purpose and does not involve unnecessary duplication.

Dated: May 30, 2008.
P. Michael Payne,
Chief, Permits, Conservation and Education Division, Office of Protected Resources, National Marine Fisheries Service.

[FR Doc. E8-12517 Filed 6-3-08; 8:45 am]

BILLING CODE 3510-22-S